NATIONAL ARCHIVES AND RECORDS ADMINISTRATION

[NARA-2025-013]

Agency Information Collection Activities: Submission for OMB Review; Comment Request

AGENCY: National Archives and Records Administration (NARA).

ACTION: Notice.

SUMMARY: We have submitted a request to the Office of Management and Budget (OMB) for approval to continue to use three currently approved information collections. People use the first information collection to request permission to film, photograph, or videotape at a NARA facility for news purposes. People use the second information collection to request permission to use NARA facilities for events in the Washington, DC, area, at a Federal records center, or at a Presidential library. People use the third information collection to request their name be placed on a list of independent researchers who perform freelance research for hire in the Washington, DC, area. We invite you to comment on the proposed information collections.

DATES: OMB must receive written comments on or before February 14, 2025.

ADDRESSES: Send any comments and recommendations on the proposed information collection in writing to www.reginfo.gov/public/do/PRAMain. You can find this particular information collection by selecting “Currently under 30-day Review—Open for Public Comments” or by using the search function.

FOR FURTHER INFORMATION CONTACT: Kellie Shipley, Paperwork Reduction Act Officer, by email at kellie.shipley@nara.gov or by telephone at 301.837.0685 with any requests for additional information.

SUPPLEMENTARY INFORMATION: Pursuant to the Paperwork Reduction Act of 1995 (Pub. L. 104-13), we invite the public and other Federal agencies to comment on proposed information collections. We published a notice of proposed collection for these information collections on November 1, 2024 (89 FR 87427) and we received no comments. We are therefore submitting the described information collections to OMB for approval.

If you have comments or suggestions, they should address one or more of the following points: (a) whether the proposed information collections are necessary for NARA to properly perform its functions; (b) our estimate of the burden of the proposed information collections and its accuracy; (c) ways we could enhance the quality, utility, and clarity of the information we collect; (d) ways we could minimize the burden on respondents of collecting the information, including through information technology; and (e) whether these collections affect small businesses.

In this notice, we solicit comments concerning the following information collections:

1. Title: Request to film, photograph, or videotape at a NARA facility for news purposes.

OMB number: 3095-0040.

Agency form number: NA Form 11010 (Use of Equipment Consent Waiver and Release).

Type of review: Regular.

Affected public: Business or other for-profit, not-for-profit institutions.

Estimated number of respondents: 350.

Estimated time per response: 10 minutes.

Frequency of response: On occasion.

Estimated total annual burden hours: 58.

Abstract: The information collection is prescribed by 36 CFR 1280.48. The collection is prepared by organizations that wish to film, photograph, or videotape on NARA property for news purposes. We need the information to determine if the request complies with NARA regulations, to ensure protection of archival holdings, and to schedule the filming appointment.

2. Title: Request to use NARA facilities in the Washington, DC, area, public spaces at Federal records centers, or Presidential library and grounds, for events.

OMB number: 3095-0043.

Agency form number: NA Form 16011 (Application and permit for use of space in Presidential library and grounds).

Type of review: Regular.

Affected public: Not-for-profit institutions, individuals or households, business or other for-profit, private organizations, Federal Government.

Estimated number of respondents: 300 for facilities in the Washington, DC, area and Federal records centers; 500 for Presidential library facilities and grounds.

Estimated time per response: 30 minutes for facilities in the Washington, DC, area and Federal records centers; 20 minutes for Presidential library facilities and grounds.

Frequency of response: On occasion.

Estimated total annual burden hours: 150 hours for facilities in the Washington, DC, area and Federal records centers; 165 hours for Presidential library facilities and grounds.

Abstract: The information collection is prescribed by 36 CFR 1280.64. Requesters submit the information when they wish to use NARA public areas in the Washington, DC, area or public spaces at Federal records centers for an event, or they submit the application to request the use of space in a Presidential library for a privately sponsored activity. We use the information to determine whether or not we can accommodate the request and date, whether the requested use meets the criteria in 36 CFR 1280, and to ensure that the proposed event complies with NARA regulations.

3. Title: Independent Researcher Listing Application.

OMB number: 3095-0054.

Agency form numbers: NA Form 14115 (Independent Researcher Listing Application).

Type of review: Regular.

Affected public: Individuals or households.

Estimated number of respondents: 300.

Estimated time per response: 10 minutes.

Frequency of response: On occasion.

Estimated total annual burden hours: 50.

Abstract: In the past, the National Archives has made use of various lists of independent researchers who perform freelance research for hire in the Washington, DC, area. We have sent these lists upon request to researchers who could not travel to the metropolitan area to conduct their own research. To better accommodate both the public and NARA staff, the Archival Operations division of the National Archives maintains a listing of independent researchers for the public. All interested independent researchers provide their contact information via this form. Collecting contact and other key information from each independent researcher and providing such information to the public when deemed appropriate will only increase business. This form is not a burden in any way to any independent researcher who voluntarily submits a completed form. Inclusion on the list will not be viewed or advertised as an endorsement by the National Archives and Records Administration (NARA). The listing is compiled and disseminated as a service to the public.

Gulam Shakir,
Acting Executive for Information Services/CIO.

[FR Doc. 2025-00714 Filed 1-14-25; 8:45 am]

BILLING CODE 7515-01-P